DEPARTMENT OF HEALTH AND HUMAN SERVICES

Centers for Medicare & Medicaid Services

[CMS-1553-N]

Medicare Program; Notice of Supplemental Election Period for Provider Participation in the Calendar Year (CY) 2007 Competitive Acquisition Plan for Part B Drugs

AGENCY: Centers for Medicare & Medicaid Services (CMS), HHS.

ACTION: Notice.

SUMMARY: This notice announces an additional physician election period for physicians who are not currently participating in the competitive acquisition program (CAP) for Medicare Part B drugs for calendar year (CY) 2007. The additional physician election period begins on May 1, 2007 and ends on June 15, 2007. Physicians who elect to join the CAP during this additional election period will enter into a physician election agreement effective August 1, 2007 through December 31, 2007.

DATES: The additional CAP physician election period will begin on May 1, 2007 and end on June 15, 2007. Physicians electing to join the CAP during this period will participate in the CAP effective August 1, 2007.

FOR FURTHER INFORMATION CONTACT: Edmund Kasaitis (410) 786-4545.

SUPPLEMENTARY INFORMATION:

I. Background

The Medicare Prescription Drug, Improvement, and Modernization Act of 2003 (Pub. L. 108-173) (MMA) requires the implementation of a competitive acquisition program (CAP) for certain Medicare Part B drugs not paid on a cost or prospective payment system basis. Physicians who elect to participate in the CAP obtain Medicare covered drugs from vendors selected through a competitive bidding process. Physicians who do not elect to participate in the CAP purchase these drugs and are paid under the average sales price (ASP) system. (For more information on the CAP, see the March 4, 2005 proposed rule (70 FR 10746), July 6, 2005 interim final rule with comment period (70 FR 39022), and November 21, 2005 final rule (70 FR 70116).) In accordance with the CAP statute and regulations, the regular, annual CAP physician election period for CY 2008 will occur in the fall of 2007.

II. Provisions of the Notice

Under the authority described in section 1847B(a)(5)(A)(i) of Social Security Act (the Act) and § 414.908(a)(2) of our regulations, which allows for physician election at times other than the regular, annual election period in such exigent circumstances as defined by CMS, we are designating an additional election period for physicians who wish to join the CAP. We are providing for this additional election period in recognition of the statutory change to the CAP under division B, title I, section 108 of the Tax Relief and Health Care Act of 2006 (Pub. L. 109-432) (TRHCA), effective for drugs supplied under the CAP as of April 1, 2007. We expect to provide program instructions or other guidance in the near future to implement changes to the CAP resulting from the new statutory provisions. Although the statutory change does not directly affect participating CAP physicians, it will require additional implementation efforts by CMS and was enacted after the close of the CAP physician election period for CY 2007. Thus, we believe this is an “exigent circumstance” for which we should allow physicians an additional opportunity to join the CAP.

The additional election period—

• Begins May 1, 2007 and end June 15, 2007; and

• Is only for physicians as defined in section 1861(r) of the Act who are not currently participating in the CY 2007 CAP.

The procedures and forms used for the regular, annual election period for CY 2007 also will be used for this additional CY 2007 election period. The aforementioned forms include the Competitive Acquisition Program (CAP) for Medicare Part B Drugs CAP Physician Election Agreement, which is currently approved under the Office of Management and Budget control number 0938-0987, with an expiration date of April 30, 2009. Physicians who wish to join the CAP during this election period may obtain a Physician Election Agreement form from the download section of the CAP Information for Physicians webpage on the CMS Web site at http://www.cms.hhs.gov/CompetitiveAcquisforBios/02_infophys.asp#TopOfPage.

Physicians who elect to participate in the CAP during the additional CY 2007 election period will have their CAP election agreement effective from August 1, 2007 through December 31, 2007. We note that participation in the CAP for CY 2008 requires renewal of CAP election during the regular fall election period, which will run from October 1, 2007 to November 15, 2007.

Completed and signed forms must be returned by mail to the physician's local carrier (the carrier that processes the physician's Part B claims). Forms must be postmarked no later than June 15, 2007. Additional details about CAP physician election will be available on the CMS Web site at http://www.cms.hhs.gov/CompetitiveAcquisforBios/02_infophys.asp#TopOfPage.

Authority: Section 1847B(a)(5)(A)(i) of the Social Security Act (42 U.S.C.) (No. 93.774, Medicare—Supplementary Medical Insurance Program).

Dated: February 15, 2007.
Leslie V. Norwalk,
Acting Administrator, Centers for Medicare & Medicaid Services.

[FR Doc. E7-3037 Filed 2-22-07; 8:45 am]

BILLING CODE 4120-01-P